NATIONAL SCIENCE FOUNDATION

National Science Board; Sunshine Act Meetings; Notice

The National Science Board's Committee on Programs and Plans, pursuant to NSF regulations (45 CFR Part 614), the National Science Foundation Act, as amended (42 U.S.C. 1862n-5), and the Government in the Sunshine Act (5 U.S.C. 552b), hereby gives notice in regard to the scheduling of a meeting for the transaction of National Science Board business and other matters specified, as follows:

DATES: November 30, 2010.

TIME AND SUBJECT MATTER OPEN: 1 p.m. to 2:45 p.m.

• Approval of Minutes.

• Committee Chairman's Remarks

• Discussion Item: Policy Options for NSB Threshold Modification.

• Discussion Item: Recompetition Policy Implementation.

• NSB Information Item: Decadal Survey and Large Synoptic Survey Telescope (LSST).

• NSB Information Item: ALMA Operations.

• NSB Information Item: DataNet.

TIME AND SUBJECT MATTER CLOSED: 3 p.m. to 5:15 p.m.

• Committee Chairman's Remarks.

• Approval of Closed Session Minutes.

• NSB Information Item: Update on HPC Award.

• NSB Action Item: Logistic Contract.

• DUSEL.

STATUS: Open and Closed.

LOCATION: The open and closed session of this meeting will be in room 1235, National Science Foundation, 4201 Wilson Blvd., Arlington, VA 22230. All visitors interested in attending the Open Session must contact the Board Office at least 24 hours prior to the meeting to arrange for a visitor's badge and to obtain the room number. Call 703-292-7000 or send an e-mail message to nationalsciencebrd@nsf.gov with your name and organizational affiliation to request the room number and your badge, which will be ready for pick-up at the visitor's desk the day of the meeting. All visitors must report to the NSF visitor desk located in the lobby at the 9th and N. Stuart Streets entrance to receive your visitor's badge on the day of the teleconference.

UPDATES AND POINT OF CONTACT: Please refer to the National Science Board Web site http://www.nsf.gov/nsb for additional information and schedule updates (time, place, subject matter or status of meeting) may be found at http://www.nsf.gov/nsb/notices/. Point of contact for this meeting is: Elizabeth Strickland, National Science Board Office, 4201Wilson Blvd., Arlington, VA 22230. Telephone: (703) 292-7000.

Daniel A. Lauretano,
Counsel to the National Science Board.

[FR Doc. 2010-29586 Filed 11-19-10; 4:15 pm]

BILLING CODE 7555-01-P